DEPARTMENT OF THE INTERIOR

Bureau of Land Management

[UT-920-08-5101-ER-J108; UTU-79766, NVN-82385]

Notice of Availability of the Draft Environmental Impact Statement for a Proposed Liquid Petroleum Products Pipeline from Woods Cross, UT, to Northeast Las Vegas, NV, and Draft Amendment of the Pony Express Resource Management Plan

AGENCY: Bureau of Land Management, Interior.

ACTION: Notice of Availability.

SUMMARY: In accordance with Section 102 of the National Environmental Policy Act of 1969 (NEPA) (42 U.S.C. 4321 et seq.), the Council on Environmental Quality's regulations implementing the NEPA (40 CFR parts 1500-1508), and applicable agency guidance, a Draft Environmental Impact Statement (DEIS) and Draft Pony Express Resource Management Plan (RMP) amendment have been prepared in response to UNEV, LLC's right-of-way (ROW) application to construct and operate a liquid petroleum products pipeline on public lands from Woods Cross, Utah, to northeast Las Vegas, Nevada.

DATES: This notice initiates a 90-day public comment period. During this period, the public is invited to submit comments on the DEIS and Draft Pony Express RMP Amendment to be considered in the development of the Final EIS and Record of Decision. To ensure comments will be considered, the BLM must receive written comments on the DEIS and Draft Plan Amendment within 90 days following the date the Environmental Protection Agency publishes a Notice of Availability in the Federal Register.

Public meetings will be held in the following locations: Salt Lake City, Tooele, Delta, and Cedar City, Utah, and Las Vegas, Nevada. Times and dates of these meetings will be announced through the Utah BLM Web site (http://www.blm.gov/ut/st/en/prog/more/lands_and_realty/major_projects/unev_pipeline_eis.html), press releases, local newspapers, and other local media. The BLM will announce public meetings and other opportunities to submit comments on this project at least 15 days prior to the event.

Before including your address, phone number, e-mail address, or other personal identifying information in your comment, be advised that your entire comment—including your personal identifying information—may be made publicly available at any time. While you can ask us in your comment to withhold from public review your personal identifying information, we cannot guarantee that we will be able to do so.

If you comment as or on behalf of an organization or business, BLM will release your comments to the public in their entirety, including all personal identifying information. The BLM will not consider a request from an organization or business, or anyone commenting on behalf of an organization or business to withhold any personal identifying information from release to the public.

ADDRESSES: Comments related to the DEIS should be mailed to Joe Incardine, National Project Manager, Bureau of Land Management, Utah State Office, P.O. Box 45155, Salt Lake City, UT 84145-0155. Comments may also be transmitted by facsimile to the attention of Joe Incardine at: (801) 539-4222, sent via e-mail to: UT_UNEV_Pipeline_EIS@blm.gov, or hand delivered to: BLM Utah State Office, 440 West 200 South, Suite 500, Salt Lake City, Utah. E-mails should include “UNEV Draft EIS” in the subject line.

FOR FURTHER INFORMATION CONTACT: Joe Incardine at the BLM Utah State Office, P.O. Box 45155, Salt Lake City, UT 84145-0155; by phone: (801) 524-3833; or by e-mail: Joe_Incardine@blm.gov.

SUPPLEMENTARY INFORMATION: UNEV, LLC is seeking a ROW grant to install approximately 400 miles of 12-inch-diameter liquid petroleum products pipeline from Woods Cross, Utah, to Las Vegas, Nevada. The subsequent construction and operation of the liquid petroleum products pipeline and facilities would occur in Davis, Salt Lake, Tooele, Juab, Millard, Beaver, Iron, and Washington Counties in Utah and Lincoln and Clark Counties in Nevada to increase the capacity and improve the efficiency of the fuel delivery system into Southern Utah and the Las Vegas, Nevada, area. The pipeline would be available to accept shipments of refined products from multiple refineries in the Salt Lake City, Utah, area, as well as refineries in Wyoming and Montana.

UNEV's ROW Application

UNEV has filed its ROW application to respond to the high population growth and increasing demand for petroleum products for the benefit of Utah and Nevada's existing and future petroleum products consumers, while balancing the needs of resources and other public interests in the area. Its pipeline is designed to:

• Follow the recommendation of the Clark County Blue Ribbon Commission to Improve the Reliability of Southern Nevada's Fuel Supply to provide a new petroleum products pipeline to Las Vegas from a source outside of California.

• Increase the capacity of the fuel delivery system into southern Utah and Nevada to address private, commercial, industrial, and military demand for refined fuel products.

• Enhance the reliability and efficiency of the current fuel delivery system for multiple refineries in the Salt Lake City area.

Pipeline Routes

UNEV proposes to install a 12-inch, welded steel, common carrier mainline pipeline for refined liquid petroleum products such as multiple grades of gasoline and diesel fuel. The pipeline would extend approximately 399 miles from a cluster of five refineries in the North Salt Lake City area, including Holly Corporation's Woods Cross Refinery, to the Apex Industrial Park northeast of Las Vegas, Nevada. A 10-inch service line to the Salt Lake International Airport would extend 2.4 miles from the mainline at milepost (MP) 4.5. An 8-inch lateral pipeline would extend approximately 9 miles from the mainline at MP 256 to the proposed Cedar City Terminal. The project would include an inlet pumping station at the origin; a pressure reduction station at a lateral terminal northwest of Cedar City, Utah; a pressure reduction site at MP 355.5, and a receiving terminal near Las Vegas. The proposed pipeline route would generally travel west past the Salt Lake International Airport to Lake Point, Tooele County, and then south through Tooele Valley. The route would continue south passing near the communities of Delta and Milford, Utah, and 20-30 miles west of Cedar City and St. George, Utah, before arriving at Apex in Nevada. The southern third of the utility corridor (from MP 250 to the Las Vegas Terminal) contains two natural gas pipelines owned by Kern River Gas Transmission Company, the most recent of which was completed in 2003.

The Airport alternative route is 3.35 miles long and would diverge from the proposed alignment at MP 6.6 and rejoin it at MP 10. At MP 6.6 the alternative alignment would continue west on the west side of the airport but within property owned by the Blackhawk Duck Club. This alternative was developed to address concerns from local duck clubs.

The Tooele County alternative route was developed to address concerns of the Tooele County Commission regarding the proposed route along the eastern side of the northern Tooele Valley from approximately MP 25.3 (near Lake Point) to MP 38.7 (north of the Tooele Ordinance Depot). The alternative route would split from the proposed route near Lake Point and run west southwest, crossing State Highway 36, proceeding southwest and along the north side of State Highway 138, north of the Tooele Airport. The route would cross the highway along the east side of Sheep Lane where the route would head south, running east of the Miller Motor Sports Park. Near the south end of the Park, the route would turn southeast and parallel an abandoned railroad ROW. The alternative route would run southeast and then curve south to rejoin the proposed UNEV route south of the crossing of State Highway 112.

The Rush Lake alternative route in Tooele County was developed to address concerns of the Salt Lake Field Office about an area having possible soil contamination within the Jacob Smelter Superfund Site OU2 Boundary, as well as to address the building of the proposed pipeline within wetlands adjacent to Rush Lake which are frequently inundated. This alternative departs from the proposed route alignment at the northern end of Rush Lake east of Stockton, Utah, and parallels the proposed alignment approximately 0.25 mile to the west. It would rejoin the proposed route at approximately MP 49.

The Millard County alternative route was developed to reduce impacts to private land owners that would result from the proposed alignment between MP 132.5 to MP 143.2. This alternative pipeline alignment would be located west of Lynndyl and Delta, Utah, and would split from the proposed route near MP 110, continue west around Delta, and tie back into the original route at approximately MP 161. This alternative route is approximately 63 miles long.

Draft RMP Amendment

The proposed pipeline ROW alignment would fall outside of current utility corridors designated by the BLM in the Pony Express RMP. For the project to be in compliance with the Pony Express RMP, this RMP would need to be amended to designate a new utility corridor. The DEIS addresses the establishment of a new utility corridor that would accommodate the proposed pipeline ROW.

The planning issues for the draft RMP amendment include:

• Access to and transportation on the public lands.

• Wildlife habitat and management of summer and winter ranges and migration corridors for antelope, mule deer, and elk.

• Cumulative effect of land uses and human activities on Threatened, Endangered, Candidate, and Sensitive species and their habitats.

• Vegetation, including impacts of invasive non-native species.

• Management of cultural and paleontological resources, including National Historic Trails.

• North Oquirrh Management Area.

• Visual Resource Management.

• Air and water quality.

• Sociology and economics.

The planning criteria for the draft RMP amendment include:

• Recognize valid existing rights.

• Comply with laws, regulations, executive orders and BLM supplemental program guidance.

• Comply with the Endangered Species Act and follow interagency agreements with the U.S. Fish and Wildlife Service regarding consultation.

• Ensure, within applicable laws and policies, that management prescriptions and planning actions complement those of neighboring federal, tribal, state, county and municipal planning jurisdictions.

• Coordinate with Indian Tribes to identify sites, areas and objects important to their culture and religious heritage.

• Evaluate cultural and paleontological resources for possible interpretation, preservation, conservation and enhancement.

• Management decisions will consider a reasonable range of alternatives that focus on the relative values of resources and ensure responsiveness to the issues. Management prescriptions will reflect multiple use resource principles.

• Address the social and economic impacts of the alternatives.

• Include management direction for public lands managed by BLM.

• Provide for public safety and welfare.

Selma Sierra,
State Director.

[FR Doc. E8-30101 Filed 12-18-08; 8:45 am]

BILLING CODE 4310-DQ-P